DEPARTMENT OF HEALTH AND HUMAN SERVICES

National Institutes of Health

National Institute of Mental Health; Notice of Meeting

Notice is hereby given of a Services Workshop convened by the Interagency Autism Coordinating Committee (IACC), Services Subcommittee.

The purpose of the IACC Services Workshop: Building a Seamless System of Quality Services and Supports Across the Lifespan is to gather State agency officials and disability experts to describe solutions and innovations to systems that result in services, supports, and policies that help people with disabilities, including Autism Spectrum Disorders (ASD), to improve the quality of their lives across the lifespan.

Name of Committee: Interagency Autism Coordinating Committee (IACC).

Type of meeting: Services Workshop.

Date: November 8, 2010.

Time: 9 a.m. to 5:30 p.m. Eastern Time.

Agenda: The workshop will focus on policy issues related to the system of services and supports for people with ASD and their families.

Place: Hilton Washington DC/Rockville Hotel & Executive Meeting Center, 1750 Rockville Pike, Rockville, MD 20852.

Webcast Live: http://videocast.nih.gov/.

Conference Call Access: Phone number: 888-577-8995. Access code: 1991506.

Cost: The meeting is free and open to the public.

Registration: http://www.acclaroresearch.com/oarc/11-8-10/. Online pre-registration is strongly recommended to expedite check-in.

Access: Metro accessible—Red Line—Twinbrook Metro Station Hotel parking validation available.

Contact Person: Ms. Lina Perez, Office of Autism Research Coordination, Office of the Director, National Institute of Mental Health, NIH, 6001 Executive Boulevard, NSC, Room 8185a, Bethesda, MD 20892-9669, Phone: 301-443-6040, E-mail: IACCPublicInquiries@mail.nih.gov.

The meeting will be open to the public with attendance limited to space available. Seats in the meeting room will be on a first come, first served basis. The meeting will also be open to the public through a conference call phone number and webcast live on the Internet. Members of the public who participate using the conference call phone number will be able to listen to the meeting but will not be heard. If you experience any technical problems with the webcast live or conference call, please e-mail IACCTechSupport@acclaroresearch.com.

Individuals who participate in person or by using these electronic services and who need special assistance, such as captioning of the conference call or other reasonable accommodations, should submit a request to the Contact Person listed on this notice at least 7 days prior to the meeting.

To access the webcast live on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Information about the IACC is available on the Web site: http://www.iacc.hhs.gov.

The schedule for the meeting is subject to change.

Dated: October 14, 2010.
Jennifer S. Spaeth,
Director, Office of Federal Advisory Committee Policy.

[FR Doc. 2010-26389 Filed 10-19-10; 8:45 am]

BILLING CODE 4140-01-P